POSTAL RATE COMMISSION

39 CFR Part 3001

[Docket No. RM2001-2; Order No. 1317]

Rules of Practice and Procedure

AGENCY: Postal Rate Commission.

ACTION: Request for comments and technical conference.

SUMMARY: The Commission is soliciting comments on electronic filing procedures. The objective is to develop a rule that makes use of modern technology, reduces the burden and expense of paper filing, and facilitates public access to data filed with the Commission.

DATES: Comments are due by July 9, 2001; a technical conference is scheduled for July 11, 2001 at 10 a.m.

ADDRESSES: Send comments to Steven W. Williams, Acting Secretary, Postal Rate Commission, 1333 H Street, NW., Suite 300, Washington, DC 20268-0001. The technical conference will be held at the above address.

FOR FURTHER INFORMATION CONTACT: Stephen L. Sharfman, 202-789-6820.

SUPPLEMENTARY INFORMATION: The Commission is issuing this document to solicit comments on procedures, currently under consideration, to permit the filing of documents electronically (filing online). In addition, the Commission hereby gives notice of a technical conference to address the filing online process. Following the technical conference, the Commission expects to issue a notice of proposed rulemaking to revise its rules of practice and procedure to reflect the availability of filing online.

Consistent with government-wide initiatives to allow for the electronic filing and storage of documents in lieu of paper (hardcopy),¹ the Commission is in the process of developing procedures to accept the filing of documents electronically (filing online). To that end, the Commission recently updated its web site (www.prc.gov) by introducing a new option to enable parties to download multiple documents simultaneously. This feature simplifies and expedites the downloading process.

¹ See, e.g., the Government Paperwork Elimination Act, Pub. L. No. 105277, 17021704.

While participation will not be mandatory, the Commission anticipates general use of filing online given the significant savings associated with electronic filing coupled with the widespread and growing access to the Internet. Filing online should reduce the cost of participating in proceedings before the Commission substantially because the need to serve parties will be virtually, if not entirely, eliminated. Thus, substantial preparation costs will be avoided. In addition, filing online should enable participants to operate more efficiently. For example, the process of submitting documents for filing will be greatly simplified; transaction costs associated with the actual filing of a hard copy, in addition to those for printing and postage, will be eliminated; any confusion over service dates will be avoided; and participants will have access to documents sooner, in both a PDF (portable document format) that accurately reflects the document filed and that is more efficient to download, and an RTF (rich text format) that can be more easily used in preparing other documents (such as discovery responses). Moreover, the system will contain safeguards ensuring participants' control over their documents prior to filing and that only documents that a participant wishes to file will be filed.

The Commission, too, will reap benefits. Filing online will eliminate the need to scan and optically character read (OCR) each filing. As a result, filings can be posted on the web site more promptly, in substantially reduced file sizes, and in a manner true to the document filed. Thus, the Commission will be able to provide better service to the public at reduced costs. In sum, filing online offers substantial, tangible benefits for participants and the Commission.

Improved technology makes filing online a realistic goal. Nonetheless, filing online remains a work in progress. The Commission's current vision of the process is outlined in greater detail in the attachment.² Briefly, its salient points are as follows: filing online will be available only to account holders; documents filed must be submitted in PDF, although documents in other formats may be attached; participants may use the Commission's web site to create PDF documents or may produce their own; and the PRC system will automatically create an RTF document from the PDF version for pasting text into other documents.

² For information purposes, the attachment also summarizes the new download option.

While the Commission would like to introduce filing online promptly, the greater concern is that the process ultimately adopted operates effectively and efficiently to the benefit of the greatest number of prospective participants. Consequently, the Commission is convening a technical conference to discuss the filing online process. The conference will be held July 11, 2001, to commence at 10 a.m. in the Commission's hearing room. In addition, persons unable to attend the conference or interested in facilitating discussion at the conference are invited to submit comments on the proposed filing online service by July 9, 2001.

Ted P. Gerarden, director of the office of consumer advocate, is designated to represent the interests of the general public in this docket.

Ordering Paragraphs

It is ordered:

1. A technical conference will be held July 11, 2001, commencing at 10 a.m. in the Commission's hearing room, to discuss the filing online process.

2. Interested persons may submit comments on the proposed filing online process by July 9, 2001.

3. Ted P. Gerarden, director of the office of consumer advocate, is designated to represent the interests of the general public in this docket.

4. The acting secretary shall cause this notice and order to be published in the Federal Register.

Authority: 39 U.S.C. 3603.

Steven W. Williams,
Acting Secretary.

Overview of Electronic Filing Process

I. Download Option

Recently, the Commission completed the development of a new option to enable website users to download multiple documents from its daily listing. Currently, this download feature is available only on systems running Windows and Internet Explorer and requires the copying of four (4) dll files (dynamic link libraries) to the user's local computer. This will occur automatically the first time that the feature is utilized. This configuration appears to be the only way to enable browsers to download multiple files into a directory structure. Although the Commission has encountered no difficulties with the dll files, it is possible that not every configuration will have the same success.

The download process is very simple: just check the boxes to the right of each document to be downloaded, or alternatively click the “check all” button, and then click the “download checked files” button. A download screen will appear, prompting the user to enter a download location, i.e., the drive and subdirectory to be used as the “root.” Once the “submit” button is clicked, a box appears showing the files to be downloaded and the destination path. Click the “start download” button to begin the process. Users may find it helpful to create a special directory to serve exclusively as the “root” for this purpose.

II. Filing Online

Electronic filing offers a host of advantages over the status quo. The notice identifies some of those benefits, but underscores that filing online remains under development. The following describes the filing online process currently under consideration by the Commission. In designing this process, the Commission has been guided by two underlying principles, flexibility and security. First, the Commission has attempted to fashion a process to minimize compliance costs while still enabling the account holder to exercise control over documents to be filed. To that end, the process gives the account holder the option to create a PDF using the PRC's server or using his or her own software. Second, the Commission addressed security issues by providing secure work areas, opportunities for document review, and RTF files.

A. Account Holder Application

Each person desiring to submit an electronic filing must complete and return the application form, available on the PRC website, to the Commission. This form need be submitted only once, provided that the information submitted remains unchanged.

The application will be similar to the following:

Account Holder Application

Name

Affiliation

Address

Phone

Email address

By signing this application I, ________, recognize that the authenticity of all documents filed under this account and password is my responsibility as the account holder.

Signature of account holder

The account holder will receive a login name and password by mail. The Commission anticipates that the process ultimately employed will enable the account holder to select an individual login name and password. Attorney account holders representing more than one party may file on behalf of any party using a single login name and password.

B. Login to the PRC's Server

The PRC web site will contain a link to “filing online.” After selecting this option, the account holder will be greeted with a login screen similar to the following:

Welcome to the PRC filing online

Login name

Password

[button for] Login

The account holder will enter the login name and password received from the Commission to reach the work area.

C. Work Area

The account holder's work area serves several functions.

First, it identifies the “documents submitted today.” These are filings submitted that business day by the account holder; they are posted for informational purposes only, and cannot be edited.

Second, it identifies “documents in progress.” These are potential filings (document(s)) for which the account holder has entered some information, e.g., party or document title, and perhaps has attached other files, but that have not yet been submitted for filing. The account holder can edit these documents by selecting the relevant one(s) and then clicking the “open existing document” button.

Third, the account holder can create a new document by clicking on the “create new document” button. The account holder will be prompted to identify the filing party(ies) and enter the title of document. An area for comments will be provided.

Fourth, because each filing must have a PDF file, the work area provides the account holder with a process to convert documents to PDF using the PRC's server. Clicking on the “convert files to PDF” button begins the conversion. This process is addressed in detail in section II D, below.

Illustratively, the screen of an account holder with the OCA may look something like this:

Documents Submitted Today

Party(ies) Title

OCA Answer of the OCA to interrogatories of UPS, witness: Callow (UPS/OCA-T1-1-15)

OCA Answer of the OCA to interrogatories of UPS, witness: Thompson (UPS/OCA-T2-7-11)

Documents in progress

OCA Answer of the OCA to interrogatories of USPS, witness: Callow (UPS/OCA-T1-1-8)

OCA Answer of the OCA to interrogatories of UPS, witness: Thompson (UPS/OCA-T2-1-11)

[button for] Open existing document

[button for] Create new document

[button for] Convert files to PDF

D. Converting to PDF

Two PDF options will be available; the first is available at no charge through the PRC's website; alternatively, participants may purchase the appropriate software to create their own PDF files.

1. On PRC Server

The conversion screen will display the account holder's uploaded files, as well as buttons for uploading, converting, and reviewing documents.

[button for] Upload files

Upon Clicking the button to upload, the Account Holder will be prompted to select the documents to be converted from the account holder's local system. The documents will be copied to the work area on the PRC's server.

On the convert page, the account holder will be prompted to select the document(s) to be converted, and then to click the “convert files now” button.

[button for] Convert files now

After conversion, the account holder may review the PDF(s) produced. A list will be displayed allowing the account holder to download and review each PDF prior to filing.

[button for] Review PDFs

2. On Account Holder's System

Adobe Acrobat Reader© is the free software that allows one to view PDF files. Adobe Acrobat© is the most common software program used to produce PDF files. Those not converting to PDF on the PRC's server may purchase Adobe Acrobat© to produce PDF files on their own system. The Commission's web site will contain a link to the appropriate site where such software may be purchased. To reiterate, account holders are not required to purchase anything to participate in filing online.

Once the PDF is ready, it may be filed.

E. Filing

The date and time of filing are established by the PRC's server. The individual responsible for the filing is determined by the account used. That individual will be required to identify on whose behalf the filing is being made and enter the document title as it appears on the document. An optional field for comments will be available.

Once the preliminary information is entered, the PDF and any other electronic files should be attached to the filing. The PDF of the document is required.

The account holder should confirm that the information entered is correct and that the appropriate files are attached and then click the “submit” button.

[button for] Submit

After clicking the “submit” button, the account holder will be prompted that the filing will become official and that the account holder may not access it further upon clicking the “ok” button. Alternatively, the account holder may cancel the transaction by clicking the “cancel” button.

[button for] OK

[button for] Cancel

Following submission of a filing, a receipt page will appear that the account holder may print for his or her records.

F. Processing

Once the filing is submitted, i.e., the “ok” button is clicked, an RTF file will be produced. The RTF is a formatted text file generated from the PDF submitted, i.e., only the text visible in the PDF is included and it is free of excess hard returns. Participants may open this file in their word processors and utilize it as they deem appropriate, e.g., cut and paste from it or modify it to create another pleading.

Finally, upon receipt of a filing, Commission personnel in dockets will check the document information and attached files. Assuming these checks reveal no problem, the filing will be made available on the Commission's web site. If there is a problem, the account holder will be contacted.

[FR Doc. 01-15436 Filed 6-19-01; 8:45 am]

BILLING CODE 7710-FW-P